DEPARTMENT OF AGRICULTURE

Forest Service

Information Collection; Request for Comments; Fuelwood and Post Assessment in Selected States

AGENCY: Forest Service, USDA.

ACTION: Notice.

SUMMARY: In accordance with the Paperwork Reduction Act of 1995, the Forest Service announces its intention to reinstate a previously approved information collection. The collected information will help the Forest Service project and meet demands for renewable resources as a source for fuelwood and fence posts. Information will be collected from a selected number of residential households and logging contractors in selected States.

DATES: Comments must be received in writing on or before December 19, 2000.

ADDRESSES: All comments should be addressed to Ronald Piva, Forest Inventory and Analysis, North Central Research Station, Forest Service, USDA, 1992 Folwell Ave., St. Paul, MN 55108.

Comments also may be submitted via facsimile to (651) 649-5140 or by email to rpiva@fs.fed.us

The public may inspect comments received at the Forest Service, USDA, North Central Research Station, Room 507, 1992 Folwell Avenue, St. Paul, Minnesota.

FOR FURTHER INFORMATION CONTACT: Ronald Piva, North Central Research Station, at (651) 649-5150.

SUPPLEMENTARY INFORMATION:

Background

The Forest and Rangeland Renewable Resource Research Act of 1978 (16 U.S.C. 1600), (as amended by the Energy Security Act of 1980 (42 U.S.C. 8701)), requires the Secretary of Agriculture to make and keep current a comprehensive survey and analysis of the present and prospective conditions of and requirements for renewable resources from forests and range lands of the United States and of the supplies of such resources, including determination of facts necessary in determination of means to balance demand for and supply of these resources.

Wood was the major source of energy for households in the United States until the 1880s when use of wood for heating fuel began to decline. In 1970, less than 2 percent of households were using wood as a primary source of heating fuel. In order to monitor availability of renewable resources for fuel and energy, the Forest Service monitored production of wood for household fuel by interviewing residents in rural areas to determine the amount of wood they used for fuel and the frequency of wood harvests from farm woodlots to supply the demand for fuelwood. These surveys were conducted about every 5 to 10 years.

In 1973, fossil fuel prices began to increase and, as a result, in the 1970s and 1980s, more households began to use wood as a source for primary or secondary heating. In 1986, an estimated 5 million households (6 percent) had a working wood stove and 19 million (21 percent) had a working fireplace. Overall, the use of wood as a residential and industrial energy source in the United States tripled in the last 25 years. The frequency of the surveys and the survey data did not reflect the actual use of wood for heating and energy purposes.

Similarly, production of round and split wood posts for farm fencing and other purposes declined from an estimated 900 million posts in 1920 to less than 60 million today. Even though use of round and split wood posts has declined, it is important to continue to monitor the demand for these products and to assess the impact the demand for the products has on the renewable forest resources.

Description of Information Collection

The following describes the information collection to be reinstated:

Title: Residential Fuelwood and Post Assessment, Any State, Year.

OMB Number: 0596-0009.

Expiration Date of Approval: July 2000.

Type of Request: Reinstatement of an information collection previously approved by the Office of Management and Budget.

Abstract: Forest Service personnel at the Northeastern Forest Experiment Station (Connecticut, Delaware, Kentucky, Maine, Maryland, Massachusetts, New Hampshire, New Jersey, New York, Ohio, Pennsylvania, Rhode Island, Vermont, and West Virginia) and North Central Research Station (Illinois, Indiana, Iowa, Kansas, Michigan, Minnesota, Missouri, Nebraska, North Dakota, South Dakota and Wisconsin) will evaluate the collected information to determine the level of renewable resources used for fuelwood and fence posts by residential households and logging contractors. The collected information will enable land managers to determine what timber to sell for use as fuelwood or fence posts, how well the local forested land will meet the demand for these timber products, and how to project future demands on these renewable natural resources for fuelwood and fence posts.

This survey also will enable Forest Service personnel to determine the types of facilities households use to heat their homes with wood, such as wood burning stoves or fireplaces; the types of land from which the wood will be cut (forestland, such as private forests, State forests, National Forests, or non-forestland, such as wooded strips, narrow windbreaks, urban areas, or yard trees); the condition of the wood that will be cut, that is whether the trees will be dead or alive.

The Forest Inventory and Analysis Work Units at the Northeastern and North Central Research Stations of the Forest Service will collect the information about the quantities and types of trees cut for fuelwood and fence posts in a given year from a sampling of residential and logging contractors located within the geographical area of the Stations. The agency will conduct the survey through telephone interviews.

Respondents will be asked questions that include an estimate of the annual fuelwood consumption in a specific State; the types of burning facilities in the State, such as wood burning stoves or fireplaces; the annual fuelwood and post production in the State; the annual fuelwood and post production from growing stock (forestland trees of commercial value) and non-growing stock sources (cull trees on forest land or trees from non forestland); the annual fuelwood and post production by tree species; the county from which the fuelwood or posts come; and the landowner class from which the fuelwood or posts come, such as public, private, or forest industry lands.

Data gathered in this information collection are not available from other sources.

Estimate of Annual Burden: 0.07 hours.

Type of Respondents: Residential households and logging contractors.

Estimated Annual Number of Respondents: 2,919.

Estimated Annual Number of Responses per Respondent: 1.

Estimated Total Annual Burden on Respondents: 204.

Comment Is Invited

The agency invites comments on the following: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments received in response to this notice, including names and addresses when provided, will become a matter of public record. Comments will be summarized and included in the request for Office of Management and Budget approval.

Dated: October 11, 2000.
Robert Lewis, Jr.,
Deputy Chief for Research & Development.

[FR Doc. 00-27041 Filed 10-19-00; 8:45 am]

BILLING CODE 3410-11-U